DEPARTMENT OF LABOR

Employment and Training Administration

[TA-W-57,649]

The Hoover Company, North Canton, OH; Notice of Termination of Investigation

Pursuant to Section 221 of the Trade Act of 1974, as amended, an investigation was initiated on July 29, 2005 in response to a petition filed by the International Brotherhood of Electrical Workers, Local 1985, on behalf of workers at The Hoover Company, North Canton, Ohio.

The petitioner has requested that the petition be withdrawn. Consequently, the investigation has been terminated.

Signed at Washington, DC, this 14th day of September, 2005.
Linda G. Poole,
Certifying Officer, Division of Trade Adjustment Assistance.

[FR Doc. E5-5298 Filed 9-27-05; 8:45 am]

BILLING CODE 4510-30-P